ENVIRONMENTAL PROTECTION AGENCY

[EPA-HQ-OAR-2010-0682; FRL-9207-9]

Agency Information Collection Activities: Proposed Collection; Comment Request; Information Collection Request for Petroleum Refinery Sector New Source Performance Standards (NSPS) and National Emission Standards for Hazardous Air Pollutants (NESHAP) Residual Risk and Technology Review; EPA ICR No. 2411.01, OMB Control No. 2060—NEW

AGENCY: Environmental Protection Agency (EPA).

ACTION: Notice.

SUMMARY: In compliance with the Paperwork Reduction Act, this action announces that EPA is planning to submit a new Information Collection Request to the Office of Management and Budget. Before submitting the Information Collection Request to the Office of Management and Budget for review and approval, EPA is soliciting comments on specific aspects of the proposed information collection as described below.

DATES: Comments must be submitted on or before November 29, 2010.

ADDRESSES: Submit your comments, identified by Docket ID No. EPA-HQ-OAR-2010-0682, by one of the following methods:

• www.regulations.gov: Follow the on-line instructions for submitting comments.

• E-mail: a-and-r-Docket@epa.gov.

• Phone: (202) 566-1742.

• Fax: (202) 566-9744.

• Mail: Air and Radiation Docket and Information Center, Environmental Protection Agency, Mailcode: 28221T, 1200 Pennsylvania Ave., NW., Washington, DC 20460.

• Hand Delivery: Air and Radiation Docket and Information Center, Environmental Protection Agency, Room 3334, EPA West Building, 1301 Constitution Avenue, NW., Washington, DC 20004. Such deliveries are only accepted during the Docket's normal hours of operation, and special arrangements should be made for deliveries of boxed information.

Instructions: Direct your comments to Docket ID No. EPA-HQ-OAR-2010-0682. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Mr. Bob Lucas, Sector Policies and Programs Division (E143-01), Office of Air Quality Planning and Standards, Environmental Protection Agency, Research Triangle Park, NC 27711; telephone number: (919) 541-0884; fax number: (919) 541-0246; e-mail address: lucas.bob@epa.gov; or Ms. Brenda Shine, Sector Policies and Programs Division (E143-01), Office of Air Quality Planning and Standards, Environmental Protection Agency, Research Triangle Park, NC 27711; telephone number: (919) 541-3608; fax number: (919) 541-0246; e-mail address: shine.brenda@epa.gov.

SUPPLEMENTARY INFORMATION:

How can I access the docket and/or submit comments?

EPA has established a public docket for this Information Collection Request (ICR) under Docket ID No. EPA-HQ-OAR-2010-0682, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use www.regulations.gov to obtain a copy of the draft collection of information, submit or view public comments, access the index listing of the contents of the docket, and to access those documents in the public docket that are available electronically. Once in the system, select “search,” then key in the docket ID number identified in this document.

What information is EPA particularly interested in?

Pursuant to Paperwork Reduction Act (PRA) section 3506(c)(2)(A), EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology (e.g., permitting electronic submission of responses). In particular, EPA is requesting comments from small entities (small businesses primarily engaged in refining crude petroleum into refined petroleum as defined by North American Industry Classification System (NAICS) code 32411 whose parent company has no more than 1,500 employees) on examples of specific additional efforts that EPA could make to reduce the paperwork burden for small entities affected by this collection.

What information collection activity or ICR does this apply to?

Affected entities: Respondents affected by this action are owners/operators of petroleum refineries, all of which are expected to be major sources of hazardous air pollutants (HAP).¹ Petroleum refineries are facilities engaged in refining and producing products made from crude oil or unfinished petroleum derivatives. Based on the Energy Information Administration's Refinery Capacity Report 2009, there are 152 operable petroleum refineries in the United States (U.S.) and the U.S. territories. We are aware that some refineries have integrated operations between two nearby, but non-contiguous, locations. Therefore, the questionnaire asks the refining companies to identify their refineries according to the definition of “facility” in the Clean Air Act (CAA), which could result in more than 152 responses. Petroleum refineries are located in 35 States, as well as Puerto Rico and the U.S. Virgin Islands. Texas, Louisiana, and California are the States with the most petroleum refining capacity. The NAICS code for respondents affected by the information collection is 32411.

¹ As defined in 40 CFR 63.2, “Major source” means any stationary source or group of stationary sources located within a contiguous area and under common control that emits or has the potential to emit considering controls, in the aggregate, 10 tons per year or more of any hazardous air pollutant or 25 tons per year or more of any combination of hazardous air pollutants, unless the Administrator establishes a lesser quantity, or in the case of radionuclides, different criteria from those specified in this sentence.

Title: Information Collection Request for Petroleum Refinery Sector New Source Performance Standards (NSPS) and National Emission Standards for Hazardous Air Pollutants (NESHAP) Residual Risk and Technology Review.

ICR numbers: EPA ICR No. 2411.01, OMB Control No. 2060-NEW.

ICR status: This ICR is for a new information collection activity. An Agency may not conduct or sponsor, and a person is not required to respond to, a collection of information, unless it displays a currently valid Office of Management and Budget (OMB) control number. The OMB control numbers for EPA's regulations in title 40 of the Code of Federal Regulations (CFR), after appearing in the Federal Register when approved, are listed in 40 CFR part 9, and are displayed either by publication in the Federal Register or by other appropriate means, such as on the related collection instrument or form, if applicable. The display of OMB control numbers in certain EPA regulations is consolidated in 40 CFR part 9.

Abstract: On March 8, 1974, the EPA issued Standards of Performance for Petroleum Refineries (40 CFR part 60, subpart J) under section 111 of the CAA. On August 18, 1995, the EPA issued NESHAP for petroleum refineries (40 CFR part 63, subpart CC) under section 112 of the CAA. On April 11, 2002, the EPA issued NESHAP for catalytic cracking units, catalytic reforming units, and sulfur recovery units at petroleum refineries (40 CFR part 63, subpart UUU) under section 112 of the CAA. This ICR is being conducted by EPA's Office of Air and Radiation to assist the EPA Administrator in determining the current affected population of petroleum refining processes and the emissions from those processes in order to evaluate whether to revise the existing emissions standards pursuant to sections 111(b), 112(d), and 112(f)(6) of the CAA.

Section 111(b)(1)(B) of the CAA mandates that EPA review and, if appropriate, revise existing NSPS every 8 years. The Standards of Performance for Petroleum Refineries were reviewed in 2008, and EPA promulgated amendments to the existing standards of performance and developed separate standards of performance for new process units (40 CFR part 60, subpart Ja). However, the Agency received and granted a number of petitions for reconsideration related to those standards. Similarly, section 112(f)(2) of the CAA directs EPA to conduct risk assessments on each source category subject to maximum achievable control technology (MACT) standards and determine if additional standards are needed to reduce residual risks. The CAA section 112(f)(2) residual risk review is to be done once, within 8 years of promulgation of the MACT standard. Section 112(d)(6) of the CAA requires EPA to review and revise the MACT standards, as necessary, taking into account developments in practices, processes, and control technologies. The CAA section 112(d)(6) technology review is to be done every 8 years.

The proposed ICR has two components: (1) A questionnaire to be completed by all 152 petroleum refineries, and (2) emissions testing to be performed for 92 selected emissions sources. To obtain the information necessary to identify and categorize all units potentially affected by any future revision to a standard, the first component of this ICR will solicit information from all potentially affected units in the format of an electronic survey under authority of section 114 of the CAA. This survey will include questions about the facility and individual emissions sources, and will ask the owners/operators to develop and provide an emissions inventory, submit cost data, provide copies of recent emissions test reports and continuous emission monitoring system (CEMS)/continuous monitoring system (CMS) data, and conduct crude oil sampling and analysis. As previously noted, all refineries are major sources of HAP, so the survey will be submitted to all facilities listed in the Energy Information Administration's Refinery Capacity Report 2009. The second component will consist of requiring emissions testing, again pursuant to the authority of section 114 of the CAA. A total of 92 individual emission sources will be selected for testing, and the owners and operators of each emission source will be notified of the requirement to test that source in accordance with an EPA-approved testing protocol.

By conducting the CAA-required reviews of both 40 CFR part 63, subparts CC and UUU, and addressing a number of the issues on reconsideration of 40 CFR part 60, subpart J/Ja all at the same time, EPA can make use of a single collection of information to consider control strategies that are the most effective for HAP, which are regulated under CAA section 112, and criteria air pollutants (such as particulate matter, sulfur dioxide, and nitrogen oxide), which are regulated under CAA section 111, and consider if additional amendments are appropriate to the CAA section 111 standards in light of this information and interaction with the CAA section 112 standards. The data would also allow EPA to evaluate compliance options for startup and shutdown periods, and consider ways to consolidate monitoring, reporting and recordkeeping requirements among the different rules under review. The data may also help EPA conduct reviews of other rules specific to petroleum refineries, including Standards of Performance for Equipment Leaks of VOC in Petroleum Refineries (40 CFR part 60, subpart GGG), Standards of Performance for VOC Emissions from Petroleum Refinery Wastewater Systems (40 CFR part 60, subpart QQQ), and National Emission Standard for Benzene Waste Operations (40 CFR part 61, subpart FF).

This one-time collection will solicit information under authority of CAA section 114. The EPA intends to provide the survey in electronic format. The survey will be sent to all facilities identified as petroleum refineries through information available to the Agency. EPA envisions allowing recipients 90 days to respond to the survey and 6 months to complete emissions testing, if required. Non-confidential information from this ICR will be made available to the public. EPA estimates the total cost of the information collection (for 152 respondents) will be 47,000 hours and $23 million, which includes $912 in operation and maintenance (O&M) costs for postage for mailing hard copy test reports and confidential survey responses to EPA.

The data collected will be used to update facility and emissions source information, develop new estimates of the population of affected units, and identify the control measures and alternative emission limits being used for compliance with the existing rules that are under review. This information, along with existing emission limits, will be used to establish a baseline for purposes of the regulatory reviews. The emissions test data (test reports, CEMS data, and CMS data) collected will be used to verify the performance of existing control measures, examine variability in emissions, evaluate emission limits, determine the performance of the most effective control measures considered for purposes of reducing residual risk, and provide a basis for estimating nationwide emissions from emissions sources for which EPA has little information. Emissions data will also be used, along with process and emission unit details, to consider options for best demonstrated technology under the NSPS review, consider subcategories for further regulation, and estimate the environmental and cost impacts associated with any regulatory options considered.

The CAA requires sources subject to this collection of information to submit the information requested. All information submitted to EPA pursuant to this ICR for which a claim of confidentiality is made, is safeguarded according to Agency policies in 40 CFR part 2, subpart B. An agency may not conduct or sponsor, and a person is not required to respond to, a collection of information unless it displays a currently valid OMB control number. OMB control numbers for EPA's regulations are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the methodology and assumptions used;

(iii) Enhance the quality, utility, and clarity of the information to be collected; and

(iv) Minimize the burden of the collection of information on those who are to respond, including through the use of appropriate automated electronic, mechanical, or other technological collection techniques or other forms of information technology (e.g., permitting electronic submission of responses).

Burden Statement: The projected cost and hour burden for industry for this one-time collection of information is $23 million and 47,000 hours. This burden is based on an estimated 152 respondents to the survey. This ICR does not include any requirements that would cause the respondents to incur either capital or start-up costs. The O&M costs of $912 are estimated for postage to mail hard copy test reports and confidential survey responses to EPA.

Burden means the total time, effort, or financial resources expended by persons to generate, maintain, retain, or disclose or provide information to or for a Federal agency. This includes the time needed to review instructions; develop, acquire, install, and use technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here.

Estimated total number of potential respondents: 152 facilities.

Frequency of response: One time.

Estimated total average number of responses for each respondent: 1.

Estimated total annual burden hours: 47,000.

Estimated total annual burden costs: $23 million. This includes an estimated burden cost of $7.8 million for the electronic survey component and an estimated cost of $15 million for the stack testing component.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 10, 2010.
Peter Tsirigotis,
Director, Sector Policies and Programs Division.

[FR Doc. 2010-24424 Filed 9-28-10; 8:45 am]

BILLING CODE 6560-50-P